DEPARTMENT OF HEALTH AND HUMAN SERVICES

Office of the Secretary

Office of Minority Health; Availability of Funds for Technical Assistance and Capacity Development Demonstration Grant Program for HIV/AIDS-Related Services in Highly Impacted Minority Communities

AGENCY: Office of the Secretary, Office of Minority Health, HHS.

ACTION: Notice of availability of funds and requests for applications for Technical Assistance and Capacity Development Demonstration Grant Program for HIV/AIDS-Related Services in Highly Impacted Minority Communities.

Authority: This program is authorized under section 1707(e)(1) of the Public Health Service Act, as amended by Public Law 105-392.

Purpose

The purpose of the Technical Assistance and Capacity Development Demonstration Grant Program for HIV/AIDS-Related Services in Highly Impacted Minority Communities is to stimulate and foster the development of effective and durable service delivery capacity for HIV prevention and treatment among organizations closely interfaced with the minority populations highly impacted by HIV/AIDS. The grantee will identify minority community-based organizations (CBOs) and small, non-federally funded minority CBOs that are well linked with minority populations highly affected by HIV/AIDS, and which have recognized needs and/or gaps in their capacity to provide HIV/AIDS-related prevention and care services. The goals are to:

• Provide administrative and programmatic technical assistance to enable those organizations to enhance their delivery of necessary services; and

• Assist those CBOs, through an ongoing mentoring relationship, in the development of their capacity as fiscally viable and programmatically effective organizations thereby allowing them to successfully compete for federal and other resources.

This program is intended to demonstrate the impact of technical assistance and capacity development on improving HIV prevention and care among organizations within a circumscribed area in which many minority individuals are in need of HIV/AIDS prevention and/or treatment services. To the extent that selected services such as substance abuse treatment and public health are available within the circumscribed area, linkages with these services will be fostered as part of the technical assistance. The program intends to address HIV/AIDS issues within the context of related socio-economic factors and contribute to overall community empowerment by strengthening indigenous leadership and organizations.

The Public Health Service (PHS) is committed to achieving the health promotion and disease prevention objectives of Healthy People 2010, a PHS-led national activity to eliminate health disparities and increase quality and years of healthy life. This announcement relates to 4 of the 28 focus areas established by Healthy People 2010: (1) Substance abuse; (2) educational and community-based programs; (3) HIV; and (4) sexually transmitted diseases. Potential applicants may access Healthy People 2010 documents online at http://www.health.gov/healthypeople/. A CD-ROM containing the Healthy People objectives for 2010 may be obtained by calling 1-800-367-4725.

Background

The Office of Minority Health's (OMH) mission is to improve the health of racial and ethnic minority populations through the development of health policies and programs that will help to address the health disparities and gaps. Consistent with its mission, the role of OMH is to serve as the focal point within the Department for service demonstrations, coalition and partnership building, and related efforts to address the health needs of racial and ethnic minorities. In keeping with this mission, OMH launched the Technical Assistance and Capacity Development Demonstration Grant Program for HIV/AIDS-Related Services in Highly Impacted Minority Communities in fiscal year (FY) 1999 to assist in addressing the HIV/AIDS issues facing minority communities in 15 eligible metropolitan statistical areas. This program is based on the hypothesis that providing technical assistance and capacity development to organizations closely linked with the minority populations highly impacted by the disease, will improve their capacity to better serve minority populations with HIV/AIDS prevention and treatment. It is anticipated that this approach will strengthen existing minority CBOs and inexperienced organizations in addressing this health issue by developing and expanding their technical skills and infrastructure capacity. In FY 2000, additional funds are being made available to increase the number of organizations participating in the program. Applicants are encouraged to establish linkages with other federally funded programs supporting HIV/AIDS prevention and care to maximize these efforts.

Disproportionate Effect of HIV/AIDS on Minorities

Statistics indicate that although advances have been made in the treatment of HIV/AIDS, this epidemic continues as a significant threat to the public health of the United States (U.S.). Despite showing a decline in the past two years, it remains a disproportionate threat to minorities. While African-Americans and Hispanics respectively represent approximately 13% and 10% of the U.S. population, approximately 36% of the more than 640,000 reported total AIDS cases are African-American and 18% are Hispanic.

In 1997, more African-Americans were reported with AIDS than any other racial/ethnic group. Of the total AIDS cases reported that year, 45% (27,075) were reported among African-Americans, 33% (20,197) were reported among whites, and 21% (12,466) were reported among Hispanics. Among women and children with AIDS, African-Americans have been especially affected, representing 60% of all women reported with AIDS in 1997 and 62% of reported pediatric AIDS cases in 1997. During 1997, the rate of new AIDS cases per 100,000 population in the U.S. was 83.7 among African-Americans, 37.7 among Hispanics, 10.4 among whites, 10.4 among American Indians/Alaska Natives, and 4.5 among Asians/Pacific Islanders.

Data from a recent Centers for Disease Control and Prevention study (Trends in the HIV and AIDS Epidemic, 1998) comparing HIV and AIDS diagnoses in 25 states with integrated reporting systems provide a clearer picture of recent shifts in the epidemic. The study indicates that many of the new HIV diagnoses are occurring among African-Americans, women, and people infected heterosexually, with an increase also observed among Hispanics. During the period from January 1994 through June 1997, African-Americans represented 45% of all AIDS diagnoses, but 57% of all HIV diagnoses. Among young people (ages 13 to 24) diagnosed with HIV, 63% were among African-Americans and 5% were among Hispanics. Although some of the states with large Hispanic populations did not have integrated HIV/AIDS reporting and could not be included in this study, HIV diagnoses among Hispanics increased 10% between 1995 and 1996.

Eligible Applicants

The following public and private, nonprofit entities are eligible to apply for this grant: (a) A community coalition consisting of at least three discrete organizations with either a minority CBO or state/local health department as the lead organization; (b) a minority CBO; or (c) a state/local health department. (See definitions of Community Coalition and Minority Community-Based Organization found in this announcement.) The applicant must provide the necessary administrative infrastructure to receive and appropriately manage the federal funds. The coalition may also incorporate other partners such as a hospital, a minority health management group, an AIDS Service Organization, or other CBOs with strong links to the target population.

Fifteen Metropolitan Statistical Areas (MSAs) were identified in FY 1999 as having the highest incidence of AIDS cases reported for 1996 and 1997. According to the Centers for Disease Control and Prevention's HIV/AIDS Surveillance Report for 1999, these same 15 MSAs continue to be identified as having the highest cumulative total of AIDS cases reported for the four years, 1996-1999. Last year, funds were available to support 4 of the 15 MSAs through this program: Chicago, IL; Miami, FL; New York, NY; and San Juan, PR. For FY 2000, the program will focus on the remaining 11 MSAs in order to maximize limited resources available this fiscal year.

Eligible applicants must be located in one of the remaining 11 MSAs. Specifically, the 11 MSAs are:

• Atlanta, GA

• Baltimore, MD

• Boston, MA

• Dallas, TX

• Ft. Lauderdale, FL

• Houston, TX

• Los Angeles, CA

• Newark, NJ

• Philadelphia, PA

• San Francisco, CA

• Washington, DC

National organizations, universities and institutions of higher education are not eligible to apply, although they may be members of the coalition. Local affiliates of national organizations which meet the definition of a minority community-based organization, however, are eligible.

Project Requirements

The applicant must propose to conduct a model program within the eligible metropolitan statistical area which is designed to carry out the following functions:

(1) Identify the existing capacity for delivering HIV-related services (both HIV prevention and treatment) to minority populations and compare this with available HIV/AIDS surveillance data. The use of geographic information systems and related techniques should be given due consideration as one of the tools to address this area;

(2) Identify high risk minority communities where there are recognized gaps in services for minority populations with HIV/AIDS;

(3) Increase the capacity of existing minority CBOs including small, non-federally funded minority CBOs which are well interfaced with the populations to be served to deliver HIV/AIDS prevention and care by:

(a) Providing administrative technical assistance to improve the fiscal and organizational capacity appropriate to their programmatic responsibilities, which may require a mentoring relationship over time; and

(b) Identifying programmatic technical assistance from the Department of Health and Human Services' Operating Divisions and linking appropriate CBOs with these resources.

(4) Utilizing consultants, as needed, to provide specific technical assistance beyond the expertise of core staff (e.g., peer-peer technical assistance capability); and

(5) Working with newly identified CBOs to develop strong linkages with other providers of services to complete a continuum of prevention and treatment services, including substance abuse treatment and mental health services for minority HIV/AIDS populations.

Availability of Funds

Approximately $2.0 million is expected to be available for award in FY 2000. It is projected that awards of up to $1.0 million total costs (direct and indirect) for a 12-month period will be made to two competing applicants.

Use of Grant Funds

Budgets of up to $1.0 million total costs (direct and indirect) per year may be requested to cover costs of: Personnel, consultants, supplies, equipment, and grant related travel. Funds may not be used for medical treatment, construction, building alterations, or renovations. All budget requests must be fully justified in terms of the proposed objectives and activities and include a computational explanation of how costs were determined.

Period of Support

The start date for the Technical Assistance and Capacity Development Demonstration Grant Program for HIV/AIDS-Related Services in Highly Impacted Minority Communities, is September 30, 2000. Support may be requested for a total project period not to exceed 3 years. Noncompeting continuation awards of up to $1.0 million will be made subject to satisfactory performance and availability of funds.

Deadline

To receive consideration, grant applications must be received by the Office of Minority Health (OMH) Grants Management Office by June 12, 2000. Applications will be considered as meeting the deadline if they are: (1) Received on or before the deadline date, or (2) postmarked on or before the deadline date and received in time for orderly processing. A legibly dated receipt from a commercial carrier or U.S. Postal Service will be accepted in lieu of a postmark. Private metered postmarks will not be accepted as proof of timely mailing. Applications submitted by facsimile transmission (FAX) or any other electronic format will not be accepted. Applications which do not meet the deadline will be considered late and will be returned to the applicant unread.

Addresses/Contacts

Applications must be prepared using Form PHS 5161-1 (Revised May 1996 and approved by OMB under control Number 0937-0189). Application kits and technical assistance on budget and business aspects of the application may be obtained from Ms. Carolyn A. Williams, Grants Management Officer, Division of Management Operations, Office of Minority Health, Rockwall II Building, Suite 1000, 5515 Security Lane, Rockville, MD 20852, telephone (301) 594-0758. Completed applications are to be submitted to the same address.

Questions regarding programmatic information and/or requests for technical assistance in the preparation of grant applications should be directed to Ms. Cynthia H. Amis, Director, Division of Program Operations, Office of Minority Health, Rockwall II Building, Suite 1000, 5515 Security Lane, Rockville, MD 20852, telephone (301) 594-0769.

Technical assistance is also available through the OMH Regional Minority Health Consultants (RMHCs). A listing of the RMHCs and how they may be contacted will be provided in the grant application kit. Additionally, applicants can contact the OMH Resource Center (OMH-RC) at 1-800-444-6472 for health information.

Criteria for Evaluating Applications

Review of Application

Applications will be screened upon receipt. Those that are judged to be incomplete, non-responsive to the announcement or nonconforming will be returned without comment. Each applicant may submit no more than one proposal under this announcement. If an organization submits more than one proposal, all will be deemed ineligible and returned without comment. Accepted applications will be reviewed for technical merit in accordance with PHS policies. Applications will be evaluated by an Objective Review Panel chosen for their expertise in minority health, experience relevant to this technical assistance and capacity development program, and their understanding and knowledge of the health problems confronting racial and ethnic minorities in the United States. Applicants are advised to pay close attention to the specific program guidelines and general instructions provided in the application kit.

Application Review Criteria

The technical review of applications will consider the following generic factors.

Factor 1: Background (15%)

Adequacy of demonstrated knowledge of the HIV/AIDS epidemic at the local level. Established level of cultural competence and sensitivity to the issues of minority populations impacted by HIV/AIDS in the service area. Expertise and understanding of HIV/AIDS prevention and treatment service delivery systems especially as related to HIV/AIDS care among minority populations. Demonstrated need for technical assistance and capacity development among the proposed target service organizations. History of long term relationship with the targeted minority community and evidence of support of local agencies and/or organizations.

Extent to which the applicant demonstrates access to targeted organizations, is well-positioned and accepted within the communities to be served, and able to interface with community leadership and existing provider systems in the area. Demonstration of objective outcomes of past efforts/activities with the target population.

Factor 2: Objectives (15%)

Relative merit of the objectives of the demonstration project, their relevance to the program purpose and stated problem, and their attainability in the stated time frames.

Factor 3: Methodology (35%)

Appropriateness of proposed approach including any established organizational linkages for providing administrative and programmatic technical assistance related to HIV/AIDS and assisting with the capacity development of identified CBOs. Appropriateness of specific activities for providing administrative and programmatic technical assistance related to HIV/AIDS and capacity development. Logic and sequencing of the planned approaches in relation to the provision of HIV/AIDS technical assistance and capacity development. Appropriateness of defined roles and resources.

Factor 4: Evaluation (20%)

Thoroughness, feasibility, and appropriateness of the evaluation design, data collection, and analysis procedures. For example, number of new CBOs identified, number of new CBOs submitting applications for grants and number of grants awarded, number of CBOs requesting technical assistance and the percentage receiving it, and identification of outcome variables for quality of service. Clarity of the intent and plans to document the activities and their outcomes to establish a model. The potential for replication of the project for similar target populations and communities including the assessment of the utility of the different tools used to implement the program.

Factor 5: Management Plan (15%)

Applicant demonstrates an ability to mobilize a strong administrative technical assistance capacity with onsite knowledge of organizational management skills, diversification of fiscal base, and organizational development. Applicant organization's capability to manage and evaluate the project as determined by: The qualifications of proposed staff or requirements for “to be hired” staff; proposed staff level of effort; and management experience of the applicant.

Award Criteria

Funding decisions will be determined by the Deputy Assistant Secretary for Minority Health of the Office of Minority Health and the Director of the Office of HIV/AIDS Policy and will take under consideration: Recommendations/ratings of the review panel and geographic and racial/ethnic distribution. Consideration will also be given to projects proposed to be implemented in Empowerment Zones and Enterprise Communities in the 11 eligible metropolitan statistical areas.

Definitions

For purposes of this grant announcement, the following definitions are provided:

Community-Based Organization—Public and private, nonprofit organizations which are representative of communities or significant segments of communities, and which address health and human services.

Community Coalition—At least three (3) discrete organizations and institutions in a community which collaborate on specific community concerns, and seeks resolution of those concerns through a formalized relationship documented by written memoranda of understanding/ agreement signed by individuals with the authority to represent the organizations (e.g., president, chief executive officer, executive director).

Minority Community-Based Organization—Public and private nonprofit community-based minority organization or a local affiliate of a national minority organization that has: a governing board composed of 51 percent or more racial/ethnic minority members, a significant number of minorities employed in key program positions, and an established record of service to a racial/ethnic minority community.

Minority Populations—American Indian or Alaska Native, Asian, Black or African American, Hispanic or Latino, and Native Hawaiian or Other Pacific Islander. (Revision to the Standards for the Classification of Federal Data on Race and Ethnicity, Federal Register, Vol. 62, No. 210, pg. 58782, October 30, 1997.)

Reporting and Other Requirements

General Reporting Requirements

A successful applicant under this notice will submit: (1) Progress reports; (2) an annual Financial Status Report; and (3) a final progress report and Financial Status Report in the format established by the Office of Minority Health, in accordance with provisions of the general regulations which apply under CFR 74.50—74.52.

Provision of Smoke-Free Workplace and Non-Use of Tobacco Products by Recipients of PHS Grants

The Public Health Service strongly encourages all grant recipients to provide a smoke-free workplace and to promote the non-use of all tobacco products. In addition, Public Law 103-227, the Pro-Children Act of 1994, prohibits smoking in certain facilities (or in some cases, any portion of a facility) in which regular or routine education, library, day care, health care or early childhood development services are provided to children.

Public Health System Reporting Requirements

This program is subject to Public Health Systems Reporting Requirements. Under these requirements, a community-based nongovernmental applicant must prepare and submit a Public Health System Impact Statement (PHSIS). The PHSIS is intended to provide information to State and local health officials to keep them apprised of proposed health services grant applications submitted by community-based organizations within their jurisdictions.

Community-based nongovernmental applicants are required to submit, no later than the Federal due date for receipt of the application, the following information to the head of the appropriate State and local health agencies in the area(s) to be impacted: (a) A copy of the face page of the application (SF 424), and (b) a summary of the project (PHSIS), not to exceed one page, which provides: (1) A description of the population to be served, (2) a summary of the services to be provided, and (3) a description of the coordination planned with the appropriate State or local health agencies. Copies of the letters forwarding the PHSIS to these authorities must be contained in the application materials submitted to the Office of Minority Health.

State Reviews

This program is subject to the requirements of Executive Order 12372 which allows States the option of setting up a system for reviewing applications from within their States for assistance under certain Federal programs. The application kit to be made available under this notice will contain a listing of States which have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC of each affected State. The due date for State process recommendations is 60 days after the application deadline established by the Office of Minority Health's Grants Management Officer.

The Office of Minority Health does not guarantee that it will accommodate or explain its responses to State process recommendations received after that date. (See “Intergovernmental Review of Federal Programs” Executive Order 12372 and 45 CFR Part 100 for a description of the review process and requirements).

OMB Catalog of Federal Domestic Assistance

The OMB Catalog of Federal Domestic Assistance number for this program is 93.006.

Dated: March 31, 2000.
Nathan Stinson, Jr.,
Deputy Assistant Secretary for Minority Health.

[FR Doc. 00-9149 Filed 3-12-00; 8:45 am]

BILLING CODE 4160-17-P